DEPARTMENT OF LABOR

Employment and Training Administration

[TA-W-64,550]

Chrysler, LLC, Trenton Engine Plant, Including On-Site Leased Workers from Caravan Knight Facilities Management LLC and Devon Facility Management, Trenton, MI, Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on March 4, 2010, applicable to workers of Chrysler, LLC, Trenton Engine Plant, including on-site leased workers from Caravan Knight Facilities Management LLC, Trenton, Michigan. The notice was published in the Federal Register on March 12, 2010 (75 FR 11915).

At the request of the State agency, the Department reviewed the certification for workers of the subject firm. The workers are engaged in the production of automotive engines.

New information shows that workers leased from Devon Facility Management were employed on-site at the Trenton, Michigan location of Chrysler, LLC, Trenton Engine Plant. The Department has determined that these workers were sufficiently under the control of the subject firm to be considered leased workers.

Based on these findings, the Department is amending this certification to include workers leased from Devon Facility Management working on-site at the Trenton, Michigan location of Chrysler, LLC, Trenton Engine Plant.

The amended notice applicable to TA-W-64,550 is hereby issued as follows:

”All workers of Chrysler, LLC, Trenton Engine Plant, including on-site leased workers from Caravan Knight Facilities Management LLC and Devon Facility Management, Trenton, Michigan, who became totally or partially separated from employment on or after November 26, 2007, through December 16, 2010, are eligible to apply for adjustment assistance under Section 223 of the Trade Act of 1974, and are also eligible to apply for alternative trade adjustment assistance under Section 246 of the Trade Act of 1974.”

Signed at Washington, DC, this 28th day of April 2010.
Elliott S. Kushner,
Certifying Officer, Division of Trade Adjustment Assistance.

[FR Doc. 2010-11273 Filed 5-11-10; 8:45 am]

BILLING CODE 4510-FN-P